DEPARTMENT OF TRANSPORTATION

Pipeline and Hazardous Materials Safety Administration

[Docket No. PHMSA-2003-15864]

Request Public Comment and Office of Management and Budget Approval for a New Information Collection

AGENCY: Pipeline and Hazardous Materials Safety Administration (PHMSA), U.S. Department of Transportation (DOT).

ACTION: Notice and request for comments.

SUMMARY: In compliance with the Paperwork Reduction Act of 1995, this notice requests public participation in the Office of Management and Budget (OMB) approval process for a new PHMSA information collection. This proposed information collection is a survey of hazardous liquid pipeline operators to obtain information on unregulated low-stress hazardous liquid pipeline characteristics. With this notice, PHMSA invites the public to submit comments over the next 60 days on ways to minimize the related burden.

DATES: Anyone may submit written comments on this proposed information collection activity by August 13, 2007. PHMSA will consider late-filed comments to the extent possible.

ADDRESSES: Reference Docket No. PHMSA-2003-15864 and submit in one of the following ways:

(1) Submit electronic comments to the DOT Docket Web Site: http://dms.dot.gov or the e-GOV Web site http://www.regulations.gov;

(2) Fax: 1-202-493-2251;

(3) Mail: Docket Management System: U.S. Department of Transportation, West Building Ground Floor, Room W12-140, 1200 New Jersey Avenue, SE., Washington, DC 20590;

(4) Hand Delivery: DOT Docket Management System; 1200 New Jersey Avenue, SE., Washington, DC 20590. The Docket facility is open 9 a.m. to 5 p.m., Monday through Friday, excluding Federal holidays.

FOR FURTHER INFORMATION CONTACT: Lane Miller by phone at (405) 954-4969 or by e-mail at Lane.Miller@dot.gov.

SUPPLEMENTARY INFORMATION:

I. Instructions

Identify the docket number, PHMSA-2003-15864, at the beginning of your comments and send two copies. To receive confirmation that PHMSA received your comments, include a self-addressed stamped postcard. Internet users may submit comments at http://www.regulations.gov, and may access all comments received by DOT at http://dms.dot.gov by performing a simple search for the docket number.

Note: PHMSA posts all comments without changes or edits to http://dms.dot.gov including any personal information provided.

Privacy Act

Anyone can search the electronic form of all comments received in response to any of our dockets by the name of the individual submitting the comment (or signing the comment, if submitted on behalf of an association, business, labor union, etc.). DOT's complete Privacy Act Statement was published in the Federal Register on April 11, 2000 (65 FR 19477), and is on the Web at http://dms.dot.gov.

II. Background

The Pipeline Inspection, Protection, Enforcement, and Safety Act of 2006 (PIPES Act), enacted into law on December 29, 2006, reauthorizes PHMSA-administered pipeline safety programs for fiscal years 2007 through 2010. Section 4 of the PIPES Act requires that PHMSA issue regulations by December 31, 2007, subjecting all low-stress hazardous liquid pipelines to the same standards and regulations as other hazardous liquid pipelines. PHMSA currently regulates low-stress pipelines located in populated areas and crossing navigable waterways. On May 18, 2007, PHMSA published a supplemental notice of proposed rulemaking proposing to apply all Federal hazardous liquid pipeline safety regulations to rural low-stress lines meeting certain criteria (72 FR 28008).

Low-stress pipelines are pipelines operating at 20 percent or less of the specified minimum yield strength of the line pipe. PHMSA does not have data on the total extent of unregulated hazardous liquid low-stress pipelines in the United States. To address this gap in the data and to obtain a more accurate understanding of the unregulated hazardous liquid low-stress pipelines, PHMSA is requesting OMB approval to conduct a one-time information collection survey.

Operators of hazardous liquid pipelines will be surveyed about mileage (including interplant pipeline mileage), diameter, pipeline material, products transported, and location. The survey will be delivered electronically to each of the companies currently operating regulated hazardous liquid pipelines. PHMSA will also attempt to reach companies that own and/or operate currently unregulated pipelines exclusively by working with industry associations to announce and distribute the survey via electronic newsletters to association members. Respondents will be able to print an electronic version of the survey and mail a hard copy or complete the survey online. Participation in the survey will be optional.

There are 288 pipeline operators that own and/or operate regulated hazardous liquids pipelines. This population may also own and/or operate unregulated hazardous liquid low-stress pipeline. The number of pipeline operators that own and/or operate unregulated pipeline mileage exclusively is unknown. Industry experts indicate that the companies operating regulated pipelines are likely to operate most, if not all, of the unregulated low-stress hazardous liquid pipelines. Based on a pre-test of the survey, PHMSA estimates 158 operators will complete the one-time survey (55 percent response rate).

Section 1320.8(d), Title 5, Code of Federal Regulations requires PHMSA to provide interested members of the public and the affected agencies an opportunity to comment on information collection requests. Information collection includes all work related to preparing and disseminating information related to this proposed information collection request, including completing paperwork, gathering information, and conducting telephone calls. PHMSA invites comments on any aspect of this proposed information collection. The comments may address: (1) Whether the proposed collection is necessary for PHMSA's performance; (2) the accuracy of the estimated burden; (3) ways for PHMSA to enhance the quality, usefulness, and clarity of the sought information; and (4) ways to minimize burden without reducing the quality of the collected information. PHMSA will summarize and/or include comments in the request for OMB's clearance of this proposed information collection.

Respondents: 158.

Frequency: This is a one time survey.

Estimated Average Burden per Response: 16 hours.

Estimated Total Annual Burden Hours: 2,528.

Authority: The Paperwork Reduction Act of 1995; 44 U.S.C. Chapter 35, as amended; and 49 CFR 1.48.

Issued in Washington, DC, on June 8, 2007.
Florence L. Hamn,
Director of Regulations, Office of Pipeline Safety.

[FR Doc. E7-11490 Filed 6-13-07; 8:45 am]

BILLING CODE 4910-60-P